DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On December 8, 2023, OFAC determined that the property and interests in property subject to U.S. jurisdiction of the following persons are blocked under the relevant sanctions authority listed below.

Individuals

1. BIEL, Gordon Koang (a.k.a. BIEL, Gordon Koang Char; a.k.a. CHAR, Koang Biel; a.k.a. “NYALUALGO, Koang”), Koch County, Unity, South Sudan; Bentiu, Unity, South Sudan; alt. DOB 1973 to 1975; POB Gany, South Sudan; nationality South Sudan; Gender Male (individual) [SOUTH SUDAN].

Designated pursuant to Section 1(a)(i)(A) of Executive Order 13664 of April 3, 2014, “Blocking Property of Certain Persons With Respect to South Sudan” (“E.O. 13664”), for being responsible for or complicit in, or to have engaged in, directly or indirectly, in actions or policies that threaten the peace, security, or stability of South Sudan.

2. HOTH, Gatluak Nyang (a.k.a. “NYANGA, Hoth Gatluak”), Mayendit County, Unity, South Sudan; DOB 1982; POB Dablual Village, Mayendit County, Unity, South Sudan; nationality South Sudan; Gender Male (individual) [SOUTH SUDAN].

Designated pursuant to Section 1(a)(i)(A) of E.O. 13664 of April 3, 2014, “Blocking Property of Certain Persons With Respect to South Sudan”, for being responsible for or complicit in, or to have engaged in, directly or indirectly, in actions or policies that threaten the peace, security, or stability of South Sudan.

3. WAJANG, Joseph Mantiel (a.k.a. WEJANG, Nguen Monytuil; a.k.a. WEJJANG, Joseph Monytuil; a.k.a. “WEJANG, Joseph Manytuil”), Bentiu, Unity, Sudan; DOB 1962; POB Sudan; nationality South Sudan; Gender Male; Passport 1561 (Sudan) expires 15 May 2006 (individual) [SOUTH SUDAN].

Designated pursuant to Section 1(a)(i)(A) of E.O. 13664 of April 3, 2014, “Blocking Property of Certain Persons With Respect to South Sudan”, for being responsible for or complicit in, or to have engaged in, directly or indirectly, in actions or policies that threaten the peace, security, or stability of South Sudan.

Dated: December 8, 2023.
Bradley T. Smith,
Director, Office of Foreign Assets Control, U.S. Department of the Treasury.

[FR Doc. 2023-27453 Filed 12-13-23; 8:45 am]

BILLING CODE 4810-AL-P